DEPARTMENT OF LABOR

Employment and Training Administration

[TA-W-51,360]

Fishing Vessel (F/V) Lonny A., Ekwok, AK; Notice of Termination of Investigation

Pursuant to section 221 of the Trade Act of 1974, as amended, an investigation was initiated on March 28, 2003 in response to a petition filed by a company official on behalf of workers of Fishing Vessel (F/V) Lonny A., State of Alaska Commercial Fisheries Entry Commission Permit # S03T55836U, Ekwok, Alaska. The workers of the subject group produce fresh and chilled salmon.

The Department issued a negative determination applicable to the petitioning group of workers on March 25, 2003 (TA-W-51,261). No new information or change in circumstances is evident which would result in a reversal of the Department's previous determination. Consequently, further investigation would serve no purpose, and the investigation has been terminated.

Signed at Washington, DC, this 8th day of April 2003.
Linda G. Poole,
Certifying Officer, Division of Trade Adjustment Assistance.

[FR Doc. 03-10355 Filed 4-25-03; 8:45 am]

BILLING CODE 4510-30-P